INTERNATIONAL TRADE COMMISSION

[Investigation No. 337-TA-925]

Certain Communications or Computing Devices and Components Thereof; Notice of Correction Concerning a Commission Determination Not To Review an Initial Determination Granting Intervenor Status to Google, Inc.

AGENCY: U.S. International Trade Commission.

ACTION: Correction of notice.

SUMMARY: Correction is made to the investigation number and caption for notice 79 FR 62465 which was published on Friday, October 17, 2014. The investigation number should be corrected from 337-TA-884 to 337-TA-925, and the caption should be corrected from Certain Consumer Electronics with Display and Processing Capabilities to Communications or Computing Devices and Components Thereof.

Issued: October 21, 2014.
William R. Bishop,
Supervisory Hearings and Information Officer.

[FR Doc. 2014-25349 Filed 10-23-14; 8:45 am]

BILLING CODE 7020-02-P